DEPARTMENT OF ENERGY

Federal Energy Regulatory Commission

[Project No. 2030-035-Oregon]

Portland General Electric Company; Notice of Availability of Environmental Assessment

July 25, 2001.

In accordance with the National Environmental Policy Act of 1969 and the Federal Energy Regulatory Commission's (Commission) regulations, 18 CFR Part 380 (Order No. 486, 52 F.R. 47910), the Office of Energy Projects has reviewed the Portland General Electric Company's (Portland General) application for license amendment to install an additional 70-kW turbine/generator unit at the Pelton Round Butte Hydroelectric Project, located on the Deschutes River in Jefferson, Marion, and Wasco Counties, Oregon, and has prepared an Environmental Assessment (EA). The project occupies lands of the Deschutes National Forest; Mt Hood National Forest; Willamette National Forest; Crooked River National Grassland; Bureau of Land Management; and tribal lands of the Confederated Tribes of the Warm Springs Reservation of Oregon.

The EA contains the Commission staff's analysis of the potential environmental impacts of the proposed amendment and concludes that approval of the proposed amendment with Portland General's proposed environmental measures would not constitute a major federal action that would significantly affect the quality of the human environment.

The EA is attached to a Commission order issued on July 20, 2001 for the above application. Copies of the EA are available for review at the Commission's Public Reference Room, located at 888 First Street, NE., Washington, DC 20426, or by calling (202) 208-1371. The EA may be viewed on the web at http://www.ferc.fed.us/online/rims.htm (call (202) 208-2222 for assistance).

For further information, contact Nan Allen at (202) 219-2938.

Linwood A. Watson, Jr.,
Acting Secretary.

[FR Doc. 01-19001 Filed 7-30-01; 8:45 am]

BILLING CODE 6717-01-P